SURFACE TRANSPORTATION BOARD

[Docket No. AB 1258]

Alloy Property Company, LLC—Adverse Abandonment—Chicago Terminal Railroad in Chicago, Ill.

On October 11, 2017, Alloy Property Company, LLC (Alloy or Applicant), filed an application under 49 U.S.C. 10903 requesting that the Surface Transportation Board (Board) authorize the third-party, or adverse, abandonment of approximately 2.625 miles of the remaining portions of the C&E and Bloomingdale lines of the Chicago Terminal Railroad Company (CTM) in Chicago, Cook County, Ill. (the Line). The Line originates at the western side of North Elston Avenue and proceeds east and south to Goose Island to a terminus near the intersection of North Branch Street and Halsted Street. There are no stations associated with the Line. The Line traverses United States Postal Service Zip Codes 60614 and 60642. The application is available on the Board's Web site at http://www.stb.gov, or a copy can be secured from Alloy's counsel, whose name and address appear below.

Alloy recently purchased property in the North Branch area of Chicago and portions of Alloy's property are traversed by the Line. According to Alloy, no rail shipments have originated or terminated on the Line since January 2015. Alloy states that any businesses on the Line that once could have used rail transportation have ceased operations, relocated, or converted to the use of non-rail transportation. Alloy also states that its application is supported by local landowners and the City of Chicago.

In a decision served on August 16, 2017, Alloy was granted exemptions from several statutory provisions as well as waivers of certain Board regulations at 49 CFR pt. 1152 that were not relevant to its adverse abandonment application or that sought information not available to it. Specifically, Alloy was granted an exemption from 49 U.S.C. 10903(c)(2) and waiver of 49 CFR§ 1152.10-14 and § 1152.24(e)(1) pertaining to System Diagram Maps; exemption from 49 U.S.C. 10903(a)(3)(B) and waiver of 49 CFR 1152.20(a)(3) regarding posting at stations and terminals; waiver of 49 CFR 1152.21 pertaining to the form of the notice of intent; waiver and modification of certain required elements in an adverse abandonment application, specifically 49 CFR 1152.22(a)(5) (SDM information), § 1152.22(b) (condition of property), § 1152.22(c) (service provided), and § 1152.22(d) (revenue and cost data), and § 1152.22(i) (draft Federal Register notice); waiver of the requirement under 49 CFR 1152.29(e)(2) that the abandonment be consummated within one year after the abandonment application; and exemption from 49 U.S.C. 10904 and waiver of 49 CFR 1152.27, which govern an offer of financial assistance (OFA) to continue common carrier rail service.

Alloy states that the Line does not contain federally granted rights-of-way. Any documentation in Alloy's possession will be made available promptly to those requesting it. Alloy's entire case-in-chief for adverse abandonment was filed with the application.

Alloy states that there is no ongoing rail service on the Line, so there would be no employees affected by an adverse abandonment. Nevertheless, the interests of any railroad employees will be protected by the conditions set forth in Oregon Short Line Railroad—Abandonment Portion Goshen Branch Between Firth & Ammon, in Bingham & Bonneville Counties, Idaho, 360 I.C.C. 91 (1979).

Any interested person may file either written comments concerning the proposed adverse abandonment and discontinuance, or protests (including protestant's entire opposition case). Persons who may oppose the proposed adverse abandonment and discontinuance but who do not wish to participate fully in the process by submitting verified statements of witnesses containing detailed evidence should file comments. Persons opposing the proposed adverse abandonment and discontinuance who wish to participate actively and fully in the process should file a protest, observing the filing, service, and content requirements of 49 CFR 1152.25. In a decision served October 25, 2017, a discovery dispute between the parties was referred to an Administrative Law Judge at the Federal Energy Regulatory Commission. A deadline for comments concerning the proposed adverse abandonment and discontinuance, as well as any reply from Alloy, will be set by a future Board decision upon resolution of the discovery issues.

Any request for an interim trail use/railbanking condition under 16 U.S.C. 1247(d) and 49 CFR 1152.29 should address whether the issuance of a certificate of interim trail use in this case would be consistent with the grant of an adverse abandonment and discontinuance application. Each trail use request must be accompanied by a $300 filing fee. See 49 CFR 1002.2(f)(27). A deadline for any request for an interim trail use/railbanking condition will be set by a future Board decision upon resolution of the discovery issues.

All filings in response to this notice must refer to Docket No. AB 1258 and must be sent to: (1) Surface Transportation Board, 395 E Street SW., Washington, DC 20423-0001; (2) Alloy's counsel, Matthew J. Warren, Sidley Austin LLP, 1501 K Street NW., Washington, DC 20005.

Filings may be submitted either via the Board's e-filing format or in the traditional paper format. Any person using e-filing should comply with the instructions found on the Board's “www.stb.gov” Web site, at the “E-FILING” link. Any person submitting a filing in the traditional paper format should send the original and 10 copies of the filing to the Board with a certificate of service. Except as otherwise set forth in 49 CFR pt. 1152, every document filed with the Board must be served on all parties to this adverse abandonment and discontinuance proceeding. 49 CFR 1104.12(a).

An environmental assessment (EA) prepared by the Board's Office of Environmental Analysis (OEA) was served on November 13, 2017. Any other persons who would like to obtain a copy of the EA may contact OEA by phone at the number listed below. The deadline for submission of comments on the EA is December 11, 2017. The comments received will be addressed in the Board's decision. A supplemental EA may be issued where appropriate.

Persons seeking further information concerning abandonment and discontinuance procedures may contact the Board's Office of Public Assistance, Governmental Affairs and Compliance at (202) 245-0238 or refer to the full abandonment/discontinuance regulations at 49 CFR pt. 1152. Questions concerning environmental issues may be directed to OEA at (202) 245-0305. Assistance for the hearing impaired is available through the Federal Information Relay Service (FIRS) at 1-800-877-8339.

Board decisions and notices are available on our Web site at “WWW.STB.GOV.”

Decided: November 21, 2017.
By the Board, Scott M. Zimmerman, Acting Director, Office of Proceedings.
Jeffrey Herzig,
Clearance Clerk.

[FR Doc. 2017-25512 Filed 11-24-17; 8:45 am]

BILLING CODE 4915-01-P